COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products and services to be furnished by nonprofit agencies employing persons who are blind or have other severe disabilities.

Comments Must Be Received on or Before: May 20, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in the notice for each product or service will be required to procure the products and services listed below from nonprofit agencies employing persons who are blind or have other severe disabilities.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-ODay Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Air Rite Odor Counteractants/Gold/6840-00-NIB-0016.

NPA: Blind Industries & Services of Maryland, Baltimore, MD.

Contract Activity: Office Supplies & Paper Products Commodity Center, New York, NY.

Product/NSN: Air Rite Odor Counteractants/Silver/6840-00-NIB-0018.

NPA: Blind Industries & Services of Maryland, Baltimore, MD.

Contract Activity: Office Supplies & Paper Products Commodity Center, New York, NY.

Product/NSN: Air Rite Odor Counteractants/Red/6840-00-NIB-0019.

NPA: Blind Industries & Services of Maryland, Baltimore, MD.

Contract Activity: Office Supplies & Paper Products Commodity Center, New York, NY.

Product/NSN: Air Rite Odor Counteractants/Blue/6840-00-NIB-0021.

NPA: Blind Industries & Services of Maryland, Baltimore, MD.

Contract Activity: Office Supplies & Paper Products Commodity Center, New York, NY.

Product/NSN: Air Rite Odor Counteractants/Spearmint/6840-00-NIB-0022.

NPA: Blind Industries & Services of Maryland, Baltimore, MD.

Contract Activity: Office Supplies & Paper Products Commodity Center, New York, NY.

Product/NSN: Air Rite Odor Counteractants/Honeysuckle/6840-00-NIB-0023.

NPA: Blind Industries & Services of Maryland, Baltimore, MD.

Contract Activity: Office Supplies & Paper Products Commodity Center, New York, NY.

Product/NSN: Air Rite Odor Counteractants/Spice/6840-00-NIB-0025.

NPA: Blind Industries & Services of Maryland, Baltimore, MD.

Contract Activity: Office Supplies & Paper Products Commodity Center, New York, NY.

Product/NSN: Air Rite Odor Counteractants/Sweet Pine/6840-00-NIB-0026.

NPA: Blind Industries & Services of Maryland, Baltimore, MD.

Contract Activity: Office Supplies & Paper Products Commodity Center, New York, NY.

Product/NSN: Air Rite Odor Counteractants/Floral/6840-00-NIB-0027.

NPA: Blind Industries & Services of Maryland, Baltimore, MD.

Contract Activity: Office Supplies & Paper Products Commodity Center, New York, NY.

Product/NSN: Air Rite Odor Counteractants/Citrus/6840-00-NIB-0028.

NPA: Blind Industries & Services of Maryland, Baltimore, MD.

Contract Activity: Office Supplies & Paper Products Commodity Center, New York, NY.

Product/NSN: Air Rite Odor Counteractants/Vanilla Bean/6840-00-NIB-0029.

NPA: Blind Industries & Services of Maryland, Baltimore, MD.

Contract Activity: Office Supplies & Paper Products Commodity Center, New York, NY.

Product/NSN: Air Rite Odor Counteractants/Green Apple Mint/6840-01-378-0412.

NPA: Blind Industries & Services of Maryland, Baltimore, MD.

Contract Activity: Office Supplies & Paper Products Commodity Center, New York, NY.

Product/NSN: Air Rite Odor Counteractants/Green/6840-01-378-0447.

NPA: Blind Industries & Services of Maryland, Baltimore, MD.

Contract Activity: Office Supplies & Paper Products Commodity Center, New York, NY.

Services

Service Type/Location: Food Service Attendant, Mississippi Air National Guard (Building 129, Dining Facility), Jackson, MS.

NPA: Goodwill Industries of Mississippi, Ridgeland, MS.

Contract Activity: Mississippi Air National Guard, Jackson, MS.

Service Type/Location: Janitorial/Custodial, U.S. Coast Guard Air Station—Detroit, Selfridge ANG Base, MI.

NPA: New Horizons Rehabilitation Services, Inc., Auburn Hills, MI.

Contract Activity: U.S. Coast Guard, Department of Transportation.

Service Type/Location: Janitorial/Custodial, 99th Regional Support Command Headquarters, Coraopolis, PA.

NPA: Hancock County Sheltered Workshop, Weirton, WV.

Contract Activity: Department of the Army.

Service Type/Location: Office Supply Store, VA Medical Center, San Francisco, CA.

NPA: Associated Industries for the Blind, Milwaukee, WI.

Contract Activity: VA Medical Center, San Francisco, CA.

Sheryl D. Kennerly,
Director, Information Management.

[FR Doc. 02-9648 Filed 4-18-02; 8:45 am]

BILLING CODE 6353-01-P